DEPARTMENT OF TRANSPORTATION

Federal Transit Administration

Public Transportation on Indian Reservations Program; Tribal Transit Program

AGENCY: Federal Transit Administration (FTA), DOT.

ACTION: Notice of Funding Availability: Solicitation of Grant Applications for FY 2008 Tribal Transit Program Funds.

SUMMARY: This notice announces the availability of Fiscal Year (FY) 2008 funds for the Public Transportation on Indian Reservations Program, a program authorized by the Safe, Accountable, Flexible, Efficient Transportation Equity Act: A Legacy for Users (SAFETEA-LU), Section 3013 (c). This notice includes a national solicitation for Grant Applications for FY 2008 Tribal Transit Program (TTP) funds to be selected on a competitive basis; the grant terms and conditions that apply to this program; and grant application procedures and selection criteria for FY 2008 projects. The Federal Transit Administration (FTA) expects to have a total of $12 million for FY 2008. For more information on the program and a list of projects currently funded go to http://www.fta.dot.gov/funding/grants/grants_financing_3553.html

ADDRESSES: This announcement is available on the FTA Web site at http://www.fta.dot.gov. FTA will post a synopsis of this announcement on the government-wide electronic grants Web site at: http://www.grants.gov. Applicants may submit applications in one of three ways: delivering five hard copies to Federal Transit Administration, 1200 New Jersey Avenue, SE., Washington, DC, 20590 Attention: Lorna R. Wilson; sending by e-mail to fta.tribalprogram@dot.gov, or filing electronically through the grants.gov Web site at http://www.grants.gov. Applicants applying by e-mail must fax signature documents to 202-366-7951, Attention: Lorna Wilson. FTA will announce final selections on the Web site and in the Federal Register.

DATES: Applicants must submit completed applications by August 19, 2008. Anyone intending to apply electronically should initiate the process of registering on the grants.gov site immediately to ensure completion of registration before the deadline for submission. FTA will announce grant selections in the Federal Register when the competitive selection process is complete.

Applicants should be aware that materials sent through the U.S. Postal Service are subject to significant delays in delivery due to the security screening process. Use of courier or express delivery services is recommended.

FOR FURTHER INFORMATION CONTACT: Contact the appropriate FTA Regional Tribal Liaison (Appendix B) for application-specific information. For general program information, contact Lorna R. Wilson, Office of Transit Programs, at (202) 366-2053, e-mail: Lorna.Wilson@dot.gov. A TDD is available at 1-800-877-8339 (TDD/FIRS).

SUPPLEMENTARY INFORMATION:

Table of Contents

I. Overview

II. Background

III. Funding Opportunity Description

A. Authorized Funding For FY 2008

IV. Award Information

V. Eligibility Information

A. Eligible Applicants

B. Eligible Projects

VI. Cost Sharing or Matching

VII. Terms and Conditions

VIII. Guidelines for Preparing Grant Application

IX. Application Content

A. Application Information

B. Technical, Legal, and Financial Capacity

C. Project Information

D. Application Evaluation Criteria

E. Submission Dates and Times

F. Intergovernmental Review

G. Funding Restrictions

H. Other Submission Requirements

X. Application Review Process

A. Competitive Selection Process

B. Evaluation Criteria

i. Criterion 1: Project Planning And Coordination

ii. Criterion 2: Demonstration Of Need

iii. Criterion 3: Benefits Of Project

iv. Criterion 4: Financial Commitment And Operating Capacity

C. Proposals for Planning Grants

D. Review and Selection Process

E. Continuation Projects

XI. Award Administration Information

XII. Other Information

A. Technical Assistance

B. Certifications and Assurances

C. Reporting

D. Agency Contact(s)

Appendices

Appendix A. Federal Fiscal Year 2008 Certifications and Assurances for the Federal Transit Administration Public Transportation on Indian Reservation Program

Appendix B. FTA Regional Offices and Tribal Liaison

Appendix C. Technical Assistance Contacts

I. Overview

Section 3013 of SAFETEA-LU, [Pub. L. 109-59 (August 10, 2005)] amended 49 U.S.C. 5311(c) by establishing the Public Transportation on Indian Reservations Program (Tribal Transit Program). This program authorizes direct grants “under such terms and conditions as may be established by the Secretary” to Indian tribes for any purpose eligible under FTA's Nonurbanized Area Formula Program, 49 U.S.C. 5311. The funding increases from $8 million in FY 2006 to $15 million in FY 2009. The Conference Report to SAFETEA-LU indicated that the funds set aside for Indian tribes in the TTP are not meant to replace or reduce funds that Indian tribes receive from States through FTA's Nonurbanized Area Formula Program. The Catalog of Federal Domestic Assistance (CFDA) number for the program is 20.509.

II. Background

Prior to SAFETEA-LU, the Section 5311 program did not include a separate public transit program for tribes. Tribes were eligible under the Section 5311 program only as subrecipients. SAFETEA-LU authorized a TTP and authorized tribes to be direct recipients of Section 5311 Program funds. As expressed in the Conference Report for SAFETEA-LU Congress intended that the funds available for the TTP should not replace or reduce funds tribes receive from States under the Section 5311 program. FTA previously published Notices of Funding Availability for FY 2006 and FY 2007. For more information on the program and a list of projects currently funded go to http://www.fta.dot.gov/funding/grants/grants_financing_3553.html.

III. Funding Opportunity Description

A. Authorized Funding for FY 2008

Section 3013 of SAFETEA-LU established the TTP. The funds are to be apportioned for grants to Indian tribes for any purpose eligible under the Nonurbanized Area Formula Program (Section 5311 program). In FY 2008, $12 million is available for allocation to projects selected through the process announced in this notice.

IV. Award Information

The number and size of awards will be determined through a competitive process. Funding is available for start-up services, enhancements or expansion of existing transit services, and for planning studies and operational planning. Planning grants will be limited to $25,000 per applicant. Tribes may apply for FY 2008. Priority for FY 2008 funding will be given to continuation projects selected in FY 2006 and FY 2007 that are in an active status. All tribes seeking FY 2008 funds must submit grant applications to FTA by August 19, 2008.

V. Eligibility Information

A. Eligible Applicants

Eligible applicants include Federally-recognized Indian tribes or Alaska Native villages, groups, or communities as identified by the Bureau of Indian Affairs (BIA) in the Department of the Interior (DOI). To be an eligible recipient, a tribe must have the requisite legal, financial and technical capabilities to receive and administer Federal funds under this program. A tribe may submit a copy of the most up-to-date Federal Register Notice published by DOI, BIA: Entities Recognized and Eligible to Receive Service from the United States Bureau of Indian Affairs.

B. Eligible Projects

Eligible recipients may use TTP funds for any purpose authorized under the Section 5311 program. This means that grants can be awarded to recipients located in rural and small urban areas with populations under 50,000 not identified as an urbanized area by the Bureau of the Census. The grants may be used for public transportation capital projects, operating costs of equipment and facilities for use in public transportation, planning, and the acquisition of public transportation services, including service agreements with private providers of public transportation services. Under Department of Transportation (DOT) Americans with Disabilities Act of 1990 (ADA) regulations, public fixed route operators are required to provide ADA complementary paratransit service to individuals who cannot use the fixed route due to their disability. Coordinated human service transportation that primarily serves elderly persons and persons with disabilities, but that is not restricted from carrying other members of the public, is considered available to the general public if it is marketed as public transportation.

VI. Cost Sharing or Matching

No cost sharing is required for this program. However, FTA encourages tribes to leverage the program funds and demonstrate commitment to the project through in-kind contributions and use of other funding sources that are available to support public transportation service.

VII. Terms and Conditions

Section 3013 of SAFETEA-LU amended 49 U.S.C. 5311(c) by authorizing funds for the TTP “under such terms and conditions as may be established by the Secretary.” Pursuant to this discretionary statutory authority in SAFETEA-LU, FTA published a Federal Register notice dated March 22, 2006 (71 FR 14618), “Public Transportation on Indian Reservations Program (49 U.S.C. 5311(c)(1)): Notice of Public Meetings, Proposed Grant Program Provisions,” and proposed certain statutory and regulatory terms and conditions that should apply to grants awarded under the TTP.

FTA received a substantial number of comments from Indian tribes and other groups concerning certain proposed terms and conditions for the TTP. FTA addressed these comments in the Federal Register notice dated August 10, 2005, (71 FR 46878) and established appropriate grant requirements for the TTP.

The following terms and conditions apply to the TTP:

1. Common Grant Rule (49 CFR part 18), “Uniform Administrative Requirements for Grants and Cooperative Agreements to State and Local Governments.” This is a government-wide requirement that applies to all Federal assistance programs.

2. Civil Rights Act of 1964, as amended (42 U.S.C. 2000d). Unless Indian tribes are specifically exempted from civil rights statutes, compliance with civil rights statutes is required, including compliance with equity in service. However, Indian tribes will not be required to comply with FTA program-specific guidance for Title VI and Title VII

3. Section 504 of the Rehabilitation Act of 1973, as amended (29 U.S.C. 794), and the Americans with Disabilities Act (ADA) requirements in 49 CFR parts 27, 37, and 38. These are government-wide requirements that apply to all Federal programs.

4. Drug and Alcohol Testing requirements (49 CFR part 655). FTA will apply this requirement because it addresses a national safety issue for operators of public transportation.

5. National Environmental Policy Act, as amended (42 U.S.C. 4321 et seq). This is a government-wide requirement that applies to all Federal programs.

6. Charter Service and School Bus transportation requirements in 49 CFR parts 604 and 605. The definition of “public transportation” in 49 U.S.C. 5302 specifically excludes school bus and charter service.

7. National Transit Database (NTD) Reporting requirement. Title 49 U.S.C. 5335 requires NTD reporting for recipients of Section 5311 funds. The TTP is a Section 5311 program that will provide funds directly to Indian tribes. Therefore, this reporting requirement applies.

8. Bus Testing requirements (49 CFR part 665). To ensure that vehicles acquired under this program will meet adequate safety and operational standards, this requirement will apply.

A comprehensive list and description for all of the statutory and regulatory terms and conditions that apply to the TTP are set forth in FTA's Master Agreement for the TTP available on FTA's Web site at: http://www.fta.dot.gov/17861_18441_ENG_HTML.htm. Selected grantees are required to have a signed Certifications and Assurances for the FY in which they apply for a grant. The Certification and Assurances must be signed by a legal entity. FTA has provided information concerning Certifications and Assurances in Appendix A of this notice. Tribes are required to select categories 01 and 22 for the purpose of the Tribal Transit Program.

VIII. Guidelines for Preparing Grant Application

FTA will divide the applications into three categories for the purpose of reviewing and selecting projects to be funded:

A. Start ups—applications for funding of new transit service;

B. Existing transit services—applications for funding of enhancements or expansion of existing transit services (including continuation of funding for start-ups selected for FY 2008 funding); and

C. Planning—applications for funding of planning studies and operational planning.

The application should provide information on all items for which tribes are requesting funding in FY 2008, and indicate the specific category in which the tribe is applying.

IX. Application Content

A. Applicant Information

1. Name of Federally recognized tribe and, if appropriate, the specific tribal agency submitting the application.

2. Dun and Bradstreet (D&B) Data Universal Numbering System (DUNS) number if available. (Note: If selected, applicant will be required to provide DUNS number prior to grant award, and DUNS number is required for submitting through grants.gov).

3. Contact information including: Contact name, title, address, fax and phone number, and e-mail address if available.

4. Description of public transportation services including areas currently served by tribe, if any.

5. Name of person (s) authorized to apply on behalf of tribe (signed transmittal letter should accompany application if the application is submitted in hard copy or e-mail).

B. Technical, Legal, and Financial Capacity to Implement the Proposed Project

Tribes that cannot demonstrate adequate capacity in technical, legal and financial areas will not be considered for funding. Every application must describe the tribe's technical, legal, and financial capacity to implement the proposed project.

1. Legal Capacity: Provide documentation or other evidence to show that the applicant is a Federally recognized tribe. Also, who is the authorized representative to execute legal agreements with FTA on behalf of the tribe? If currently operating transit service, does the tribe have appropriate Federal or State operating authority?

2. Technical Capacity: Give examples of the tribe's management of other Federal projects. What resources does the tribe have to implement a transit project?

3. Financial Capacity: Does the tribe have adequate financial systems in place to receive and manage a Federal grant? Describe the tribe's financial systems and controls.

C. Project Information

1. Budget: Provide the Federal amount requested for each purpose for which funds are sought and any funding from other sources that will be provided. If applying for a multi-year project (not to exceed 2 years), show annual request for each year by budget line item.

2. Project Description: Indicate the category for which funding is requested; i.e., start-ups, enhancements or replacements of existing transit services or planning studies or operational planning grants. Provide a summary description of the proposed project and how it will be implemented (e.g., number and type of vehicles, service area, schedules, type of services, fixed route or demand responsive), route miles (if fixed route), major origins and destinations, population served, and whether the tribe provides the service directly or contracts for services and how will vehicles be maintained.

3. Project Timeline: Include significant milestones such as date of contract for purchase of vehicle(s), actual or expected delivery date of vehicles, and service start up dates.

D. Application Evaluation Criteria

Applications for funding of transit services should address the application criteria based on project to be funded (for more detail see section X).

1. Criterion 1: Project Planning and Coordination.

2. Criterion 2: Demonstration of Need.

3. Criterion 3: Benefits of Project.

4. Criterion 4: Financial Commitment and Operating Capacity.

Applications for planning grants should address the criteria in section X, C of this notice.

E. Intergovernmental Review

This program is not subject to Executive Order 12372, “Intergovernmental Review of Federal Programs.”

F. Funding Restrictions

FTA will consider applications for funding only from eligible recipients for eligible activities (see section V). Due to funding limitations, applicants that are selected for funding may receive less than the amount requested. The application process will allow an Indian tribe to apply for multiple years of funding not to exceed two years. No more than $25,000 in funding will be awarded per planning grant. The remaining funds will be made available for applications for funding of start-up or new systems, and enhancements or expansion of existing transit service. Current TTP grantees applying for FY 2008 projects must be in an active status to receive additional funding.

X. Application Review Process

A. Competitive Selection Process

FTA will divide applications into three categories. The three evaluation categories are as follows:

• Start-ups—Applications for funding of new transit service.

• Existing transit services—Applications for funding of enhancements or expansion of existing transit services.

• Planning—Applications for funding of transit planning studies and/or operational planning.

Applications will be grouped into their respective category for review and scoring purposes. Applications for planning will be evaluated using a pass/fail system, whereas start-up and existing transit services applications will be scored based on the evaluation criteria to determine rank for funding award determination purposes. An applicant can receive up to 25 points for each evaluation criterion, up to a total score of 100.

FTA intends to award the full amount of funding available in FY 2008 for the TTP. FTA encourages applicants to review the evaluation criteria and all other related application information prior to preparation of an application. Applicants may receive technical assistance for application development by contacting their FTA regional Tribal liaison, Tribal Transportation Assistance Program (TTAP) center, or the National Rural Transportation Assistance Program (RTAP) office. Contact information for technical assistance can be found in Appendix C.

B. Evaluation Criteria

1. Project Planning and Coordination (25 Points)

In this section, the applicant should describe how the proposed project was developed and demonstrate that there is a sound basis for the project and that it is ready to implement if funded. Information may vary depending upon whether the tribe has a formal plan that includes transit.

a. Applicants without a formal plan that includes transit are advised to consider and address the following areas:

i. Provide a detailed project description including the proposed service, vehicle and facility needs, and other pertinent characteristics of the proposed service implementation.

ii. Identify existing transportation services available to the tribe and discuss whether the proposed project will provide opportunities to coordinate service with existing transit services, including human service agencies, intercity bus services, or other public transit providers.

iii. Discuss the level of support either by the community and/or tribal government for the proposed project.

iv. Describe the implementation schedule for the proposed project, such as time frame, staffing, and procurement.

b. Applicants with a formal transit plan are advised to consider and address the following areas:

i. Describe the planning document and/or the planning process conducted to identify the proposed project.

ii. Describe how the mobility and client-access needs of tribal human service agencies were considered in the planning process.

iii. Describe what opportunities for public participation were provided in the planning process and how the proposed transit service or existing service has been coordinated with transportation provided for the clients of human service agencies, with intercity bus transportation in the area, or with any other rural public transit providers.

iv. Describe how the proposed service complements rather than duplicates any currently available services.

v. Describe the implementation schedule for the proposed project, including time frame, staffing, procurement, etc.

vi. Describe any other planning or coordination efforts that were not mentioned above.

c. Based on the information provided as discussed in the above section, proposals will be rated on the following:

i. Is there a sound basis for the proposed project?

ii. Is the project ready to implement?

2. Demonstration of Need (25 Points)

In this section, the application should demonstrate the transit needs of the tribe and discuss how the proposed transit improvements will address the identified transit needs of the tribe. Applications may include information such as destinations and services not currently accessible by transit, need for access to jobs or health care, special needs of the elderly and individuals with disabilities, income-based community needs, or other mobility needs.

Based on the information provided, the proposals will be rated on the following:

a. Is there a demonstrated need for the project?

b. How well does the project fulfill the need?

3. Benefits of Project (25 Points)

In this section, applications should identify expected project benefits. Possible examples include increased ridership and daily trips, improved service, improved operations and coordination, and economic benefits to the community.

Benefits can be demonstrated by identifying the population of tribal members and non-tribal members in the proposed project service area and estimating the number of daily one-way trips the transit service will provide and or the number of individual riders. There may be many other, less quantifiable, benefits to the tribe and surrounding community from this project. Please document, explain or show the benefits in whatever format is reasonable to present them.

Based on the information provided proposals will be rated based on:

a. Will the project improve transit efficiency or increase ridership?

b. Will the project improve mobility for the tribe?

c. Will the project improve access to important destinations and services?

d. Are there other qualitative benefits?

4. Financial Commitment and Operating Capacity (25 Points)

In this section, the application should identify any other funding sources used by the tribe to support existing or proposed transit services, including human service transportation funding, Indian Reservation Roads, or other FTA programs such as Job Access and Reverse Commute (JARC), New Freedom, section 5311, section 5310, or section 5309 bus and bus facilities funding.

For existing services, the application should show how TTP funding will supplement (not duplicate or replace) current funding sources. If the transit system was previously funded under section 5311 through the State's apportionment, describe how requested TTP funding will expand available services.

Describe any other resources the tribe will contribute to the project, including in-kind contributions, commitments of support from local businesses, donations of land or equipment, and human resources, and describe to what extent the new project or funding for existing service leverages other funding.

The tribe should show its ability to manage programs by demonstrating the existing programs it administers in any area of expertise such as human services. Based upon the information provided, the proposals will be rated on the extent to which the proposal demonstrates that:

a. This project provides new services or complements existing service;

b. TTP funding does not replace existing funding;

c. The tribe has or will provide non-financial support to project;

d. The tribe has demonstrated ability to provide other services or manage other programs; and

e. Project funds are used in coordination with other services for efficient utilization of funds.

C. Proposals for Planning Grants

For planning grants, the application should describe, in no more than three pages, the need for and a general scope of the proposed study.

1. Criteria: Need for Planning Study

Based on the information provided, proposals will be rated pass/fail based on the following:

a. Is the tribe committed to planning for transit?

b. Is the scope of the proposed study for tribal transit?

D. Review and Selection Process

Each application will be screened by a panel of members, including FTA Headquarters and regional staff. Incomplete or non-responsive applications will be disqualified. FTA will make an effort to award grants to as many qualified applicants as possible.

E. Continuation Projects

If an applicant is proposing a continuation project, using FY 2008 funding, tribes must demonstrate that their project(s) are in an active status to receive additional funding. Along with the criteria listed in Section B, proposals should state that the applicant is a current TTP grantee and provide information on their transit project(s) status including services now being provided and how the new funding will complement the existing service. Please provide any extenuating data that would be helpful to project evaluators; i.e., ridership, increased service hours, extended service routes, stops, etc. If you received a planning grant in FY 2006 or in FY 2007, please indicate the status of your planning study and how this project relates to that study.

XI. Award Administration Information

FTA will award grants directly to federally recognized Indian tribes for the projects selected through this competition. Following publication of the selected recipients, projects, and amounts, FTA regional staff will assist the successful applicants in preparing electronic applications for grant awards. At that time, the tribe will be required to sign the Certification and Assurances contained in Appendix A. The Master Agreement is available on FTA's Web site at http://www.fta.dot.gov/17861_18441_ENG_HTML.htm.

Applicants that are selected for grant awards under the TTP will be required to formally designate, by resolution or other formal tribal action, an authorized representative who will have the authority to execute grant agreements on behalf of the Indian tribe with FTA and who will also have the authority on behalf of the Indian tribe to execute FTA's Annual List of Certifications and Assurances.

FTA will notify all applicants, both those selected for funding and those not selected, when the competitive selection process is complete. Projects selected for funding will be published in a Federal Register notice.

XII. Other Information

A. Technical Assistance

Technical assistance regarding these requirements is available from each FTA regional office. The regional offices will contact those applicants selected for funding regarding procedures for making the required certifications and assurances to FTA before grants are made and will provide assistance in preparing the documentation necessary for the grant award.

B. Certifications and Assurances

Applicants that are selected for grant awards under the TTP will be required to formally designate, by resolution or other formal tribal action, an authorized representative who will have the authority to execute grant agreements on behalf of the Indian tribe with FTA and who will also have the authority on behalf of the Indian tribe to execute FTA's Annual List of Certifications and Assurances. The Annual List of Certifications and Assurances is attached in Appendix A for informational purposes only.

C. Reporting

Title 49 U.S.C. 5335 requires recipients, including tribes, of Section 5311 program funds to report data, as specified in 49 U.S.C. 5311(b)(4), to the National Transit Database (NTD). Specific procedures and data requirements for tribes are being developed and will be available on the NTD Web site. For technical assistance, contact Lauren Tuzikow at 703-462-5233, e-mail: Lauren.tuzikow@TSPUSA.com. For NTD program information, contact Gary DeLorme at 202-366-1652. Annual progress reports and financial status reports will be required of all recipients.

D. Agency Contact(s)

Contact the appropriate FTA regional Tribal Liaison (Appendix B) for application specific information and issues For general program information, contact Lorna R. Wilson, Office of Transit Programs, at (202) 366-2053, e-mail: Lorna.Wilson@dot.gov. A TDD is available at 1-800-877-8339 (TDD/FIRS).

Issued in Washington, DC, this 15th day of May, 2008.
James S. Simpson,
Administrator.

Appendix A. Federal Fiscal Year 2008 Certifications and Assurances for the Federal Transit Administration Public Transportation on Indian Reservation Program

Federal Fiscal Year 2008 Certifications and Assurances for Federal Transit Administration Assistance Programs

Preface

In accordance with 49 U.S.C. 5323(n), the following certifications and assurances have been compiled for Federal Transit Administration (FTA) assistance programs. FTA requests each Applicant to provide as many certifications and assurances as needed for all programs for which the Applicant intends to seek FTA assistance during Federal Fiscal Year 2008. Twenty-four (24) Categories of certifications and assurances are listed by numbers 01 through 24 in the TEAM-Web “Recipients” option at the “Cert's & Assurances” tab of “View/Modify Recipients.” Category 01 applies to all Applicants. Category 02 applies to all applications for Federal assistance in excess of $100,000. Categories 03 through 24 will apply to and be required for some, but not all, Applicants and projects. FTA's annual certifications and assurances permit the Applicant to select a single certification which can cover all the programs for which it anticipates submitting an application. FTA requests the Applicant to read each certification and assurance carefully and select all certifications and assurances that may apply to the programs for which it expects to seek Federal assistance.

FTA and the Applicant understand and agree that not every provision of these certifications and assurances will apply to every Applicant or every project for which FTA provides Federal financial assistance through a Grant Agreement or Cooperative Agreement. The type of project and the section of the statute authorizing Federal financial assistance for the project will determine which provisions apply. The terms of these certifications and assurances reflect applicable requirements of FTA's enabling legislation currently in effect.

The Applicant also understands and agrees that these certifications and assurances are special pre-award requirements specifically prescribed by Federal law or regulation and do not encompass all Federal laws, regulations, and directives that may apply to the Applicant or its project. A comprehensive list of those Federal laws, regulations, and directives is contained in the current FTA Master Agreement MA(14) for Federal Fiscal Year 2008 at the FTA Web site http://www.fta.dot.gov/documents/14-Master.pdf. The certifications and assurances in this document have been streamlined to remove most provisions not covered by statutory or regulatory certification or assurance requirements.

Because many requirements of these certifications and assurances will require the compliance of the subrecipient of an Applicant, we strongly recommend that each Applicant, including a State, that will be implementing projects through one or more subrecipients, secure sufficient documentation from each subrecipient to ensure compliance, not only with these certifications and assurances, but also with the terms of the Grant Agreement or Cooperative Agreement for the project, and the Master Agreement or an alternative Master Agreement for its project, if applicable, incorporated therein by reference. Each Applicant is ultimately responsible for compliance with the provisions of the certifications and assurances applicable to itself or its project irrespective of participation in the project by any subrecipient.

01. Assurances Required for Each Applicant

Each Applicant for FTA assistance must provide all assurances in this Category “01.” Except to the extent that FTA expressly determines otherwise in writing, FTA may not award any Federal assistance until the Applicant provides the following assurances by selecting Category “01.”

A. Assurance of Authority of the Applicant and Its Representative

The authorized representative of the Applicant and the attorney who sign these certifications, assurances, and agreements affirm that both the Applicant and its authorized representative have adequate authority under applicable State, local, or Indian tribal law and regulations, and the Applicant's by-laws or internal rules to:

(1) Execute and file the application for Federal assistance on behalf of the Applicant;

(2) Execute and file the required certifications, assurances, and agreements on behalf of the Applicant binding the Applicant; and

(3) Execute grant agreements and cooperative agreements with FTA on behalf of the Applicant.

B. Standard Assurances

The Applicant ensures that it will comply with all applicable Federal statutes and regulations in carrying out any project supported by an FTA grant or cooperative agreement. The Applicant agrees that it is under a continuing obligation to comply with the terms and conditions of the grant agreement or cooperative agreement issued for its project with FTA. The Applicant recognizes that Federal laws and regulations may be modified from time to time and those modifications may affect project implementation. The Applicant understands that Presidential executive orders and Federal directives, including Federal policies and program guidance may be issued concerning matters affecting the Applicant or its project. The Applicant agrees that the most recent Federal laws, regulations, and directives will apply to the project, unless FTA issues a written determination otherwise.

C. Intergovernmental Review Assurance

Except if the Applicant is an Indian tribal government seeking assistance authorized by 49 U.S.C. 5311(c)(1), the Applicant ensures that each application for Federal assistance it submits to FTA has been submitted or will be submitted for intergovernmental review to the appropriate State and local agencies as determined by the State. Specifically, the Applicant ensures that it has fulfilled or will fulfill the obligations imposed on FTA by U.S. Department of Transportation (U.S. DOT) regulations, “Intergovernmental Review of Department of Transportation Programs and Activities,” 49 CFR part 17. This assurance does not apply to Applicants for Federal assistance derived from FTA's Tribal Transit Program, 49 U.S.C. 5311(c)(1).

D. Nondiscrimination Assurance

As required by 49 U.S.C. 5332 (which prohibits discrimination on the basis of race, color, creed, national origin, sex, or age, and prohibits discrimination in employment or business opportunity), by Title VI of the Civil Rights Act of 1964, as amended, 42 U.S.C. 2000d, and by U.S. DOT regulations, “Nondiscrimination in Federally-Assisted Programs of the Department of Transportation—Effectuation of Title VI of the Civil Rights Act,” 49 CFR Part 21 at 21.7, the Applicant ensures that it will comply with all requirements imposed by or issued pursuant to 49 U.S.C. 5332, 42 U.S.C. 2000d, and 49 CFR Part 21, so that no person in the United States, on the basis of race, color, national origin, creed, sex, or age will be excluded from participation in, be denied the benefits of, or otherwise be subjected to discrimination in any program or activity (particularly in the level and quality of transportation services and transportation-related benefits) for which the Applicant receives Federal assistance awarded by the U.S. DOT or FTA.

Specifically, during the period in which Federal assistance is extended to the project, or project property is used for a purpose for which the Federal assistance is extended or for another purpose involving the provision of similar services or benefits, or as long as the Applicant retains ownership or possession of the project property, whichever is longer, the Applicant ensures that:

(1) Each project will be conducted, property acquisitions will be undertaken, and project facilities will be operated in accordance with all applicable requirements imposed by or issued pursuant to 49 U.S.C. 5332, 42 U.S.C. 2000d, and 49 CFR part 21, and understands that this assurance extends to its entire facility and to facilities operated in connection with the project.

(2) It will promptly take the necessary actions to effectuate this assurance, including notifying the public that complaints of discrimination in the provision of transportation-related services or benefits may be filed with U.S. DOT or FTA. Upon request by U.S. DOT or FTA, the Applicant ensures that it will submit the required information pertaining to its compliance with these provisions.

(3) It will include in each subagreement, property transfer agreement, third party contract, third party subcontract, or participation agreement adequate provisions to extend the requirements imposed by or issued pursuant to 49 U.S.C. 5332, 42 U.S.C. 2000d and 49 CFR Part 21 to other parties involved therein including any subrecipient, transferee, third party contractor, third party subcontractor at any level, successor in interest, or any other participant in the project.

(4) Should it transfer real property, structures, or improvements financed with Federal assistance provided by FTA to another party, any deeds and instruments recording the transfer of that property shall contain a covenant running with the land assuring nondiscrimination for the period during which the property is used for a purpose for which the Federal assistance is extended or for another purpose involving the provision of similar services or benefits.

(5) The United States has a right to seek judicial enforcement with regard to any matter arising under the Act, regulations, and this assurance.

(6) It will make any changes in its Title VI implementing procedures as U.S. DOT or FTA may request to achieve compliance with the requirements imposed by or issued pursuant to 49 U.S.C. 5332, 42 U.S.C. 2000d, and 49 CFR Part 21.

E. Assurance of Nondiscrimination on the Basis of Disability

As required by U.S. DOT regulations, “Nondiscrimination on the Basis of Handicap in Programs and Activities Receiving or Benefiting from Federal Financial Assistance,” at 49 CFR 27.9, the Applicant ensures that, as a condition to the approval or extension of any Federal assistance awarded by FTA to construct any facility, obtain any rolling stock or other equipment, undertake studies, conduct research, or to participate in or obtain any benefit from any program administered by FTA, no otherwise qualified person with a disability shall be, solely by reason of that disability, excluded from participation in, denied the benefits of, or otherwise subjected to discrimination in any program or activity receiving or benefiting from Federal assistance administered by the FTA or any entity within U.S. DOT. The Applicant ensures that project implementation and operations so assisted will comply with all applicable requirements of U.S. DOT regulations implementing the Rehabilitation Act of 1973, as amended, 29 U.S.C. 794, et. seq., and the Americans with Disabilities Act of 1990, as amended, 42 U.S.C. 12101 et. seq., and implementing U.S. DOT regulations at 49 CFR Parts 27, 37, and 38, and any other applicable Federal laws that may be enacted or Federal regulations that may be promulgated.

F. U.S. Office of Management and Budget (OMB) Assurances

Consistent with OMB assurances set forth in SF-424B and SF-424D, the Applicant ensures that, with respect to itself or its project, the Applicant:

(1) Has the legal authority to apply for Federal assistance and the institutional, managerial, and financial capability (including funds sufficient to pay the non-Federal share of project cost) to ensure proper planning, management, and completion of the project described in its application;

(2) Will give FTA, the Comptroller General of the United States, and, if appropriate, the State, through any authorized representative, access to and the right to examine all records, books, papers, or documents related to the award; and will establish a proper accounting system in accordance with generally accepted accounting standards or agency directives;

(3) Will establish safeguards to prohibit employees from using their positions for a purpose that constitutes or presents the appearance of personal or organizational conflict of interest or personal gain;

(4) Will initiate and complete the work within the applicable project time periods following receipt of FTA approval;

(5) Will comply with all applicable Federal statutes relating to nondiscrimination including, but not limited to:

(a) Title VI of the Civil Rights Act, 42 U.S.C. 2000d, which prohibits discrimination on the basis of race, color, or national origin;

(b) Title IX of the Education Amendments of 1972, as amended, 20 U.S.C. 1681 through 1683, and 1685 through 1687, and U.S. DOT regulations, “Nondiscrimination on the Basis of Sex in Education Programs or Activities Receiving Federal Financial Assistance,” 49 CFR part 25, which prohibit discrimination on the basis of sex;

(c) Section 504 of the Rehabilitation Act of 1973, as amended, 29 U.S.C. 794, which prohibits discrimination on the basis of disability;

(d) The Age Discrimination Act of 1975, as amended, 42 U.S.C. 6101 through 6107, which prohibits discrimination on the basis of age;

(e) The Drug Abuse Office and Treatment Act of 1972, as amended, 21 U.S.C. 1101 et seq., relating to nondiscrimination on the basis of drug abuse;

(f) The Comprehensive Alcohol Abuse and Alcoholism Prevention Act of 1970, as amended, 42 U.S.C. 4541 et seq. relating to nondiscrimination on the basis of alcohol abuse or alcoholism;

(g) The Public Health Service Act of 1912, as amended, 42 U.S.C. 201 et seq., relating to confidentiality of alcohol and drug abuse patient records;

(h) Title VIII of the Civil Rights Act, 42 U.S.C. 3601 et seq., relating to nondiscrimination in the sale, rental, or financing of housing; and

(i) Any other nondiscrimination statute(s) that may apply to the project;

(6) To the extent applicable, will comply with, or has complied with, the requirements of Titles II and III of the Uniform Relocation Assistance and Real Property Acquisition Policies Act of 1970, as amended, (Uniform Relocation Act) 42 U.S.C. 4601 et seq., which, among other things, provide for fair and equitable treatment of persons displaced or persons whose property is acquired as a result of Federal or federally assisted programs. These requirements apply to all interests in real property acquired for project purposes and displacement caused by the project regardless of Federal participation in any purchase. As required by sections 210 and 305 of the Uniform Relocation Act, 42 U.S.C. 4630 and 4655, and by U.S. DOT regulations, “Uniform Relocation Assistance and Real Property Acquisition for Federal and Federally Assisted Programs,” 49 CFR 24.4, the Applicant ensures that it has the requisite authority under applicable state and local law to comply with the requirements of the Uniform Relocation Act, 42 U.S.C. 4601 et seq., and U.S. DOT regulations, “Uniform Relocation Assistance and Real Property Acquisition for Federal and Federally Assisted Programs,” 49 CFR part 24, and will comply with that Act or has complied with that Act and those implementing regulations, including but not limited to the following:

(a) The Applicant will adequately inform each affected person of the benefits, policies, and procedures provided for in 49 CFR part 24;

(b) The Applicant will provide fair and reasonable relocation payments and assistance as required by 42 U.S.C. 4622, 4623, and 4624; 49 CFR part 24; and any applicable FTA procedures, to or for families, individuals, partnerships, corporations, or associations displaced as a result of any project financed with FTA assistance;

(c) The Applicant will provide relocation assistance programs offering the services described in 42 U.S.C. 4625 to such displaced families, individuals, partnerships, corporations, or associations in the manner provided in 49 CFR part 24;

(d) Within a reasonable time before displacement, the Applicant will make available comparable replacement dwellings to displaced families and individuals as required by 42 U.S.C. 4625(c)(3);

(e) The Applicant will carry out the relocation process in such manner as to provide displaced persons with uniform and consistent services, and will make available replacement housing in the same range of choices with respect to such housing to all displaced persons regardless of race, color, religion, or national origin;

(f) In acquiring real property, the Applicant will be guided to the greatest extent practicable under state law, by the real property acquisition policies of 42 U.S.C. 4651 and 4652;

(g) The Applicant will pay or reimburse property owners for necessary expenses as specified in 42 U.S.C. 4653 and 4654, with the understanding that FTA will provide Federal financial assistance for the Applicant's eligible costs of providing payments for those expenses, as required by 42 U.S.C. 4631;

(h) The Applicant will execute such amendments to third party contracts and subagreements financed with FTA assistance and execute, furnish, and be bound by such additional documents as FTA may determine necessary to effectuate or implement the assurances provided herein; and

(i) The Applicant agrees to make these assurances part of or incorporate them by reference into any third party contract or subagreement, or any amendments thereto, relating to any project financed by FTA involving relocation or land acquisition and provide in any affected document that these relocation and land acquisition provisions shall supersede any conflicting provisions;

(7) To the extent applicable, will comply with the Davis-Bacon Act, as amended, 40 U.S.C. 3141 et seq., the Copeland “Anti-Kickback” Act, as amended, 18 U.S.C. 874, and the Contract Work Hours and Safety Standards Act, as amended, 40 U.S.C. 3701 et seq., regarding labor standards for federally assisted projects;

(8) To the extent applicable, will comply with the flood insurance purchase requirements of section 102(a) of the Flood Disaster Protection Act of 1973, as amended, 42 U.S.C. 4012a(a), requiring the Applicant and its subrecipients in a special flood hazard area to participate in the program and purchase flood insurance if the total cost of insurable construction and acquisition is $10,000 or more;

(9) To the extent applicable, will comply with the Lead-Based Paint Poisoning Prevention Act, 42 U.S.C. 4831(b), which prohibits the use of lead-based paint in the construction or rehabilitation of residence structures;

(10) To the extent applicable, will not dispose of, modify the use of, or change the terms of the real property title or other interest in the site and facilities on which a construction project supported with FTA assistance takes place without permission and instructions from FTA;

(11) To the extent required by FTA, will record the Federal interest in the title of real property, and will include a covenant in the title of real property acquired in whole or in part with Federal assistance funds to ensure nondiscrimination during the useful life of the project;

(12) To the extent applicable, will comply with FTA provisions concerning the drafting, review, and approval of construction plans and specifications of any construction project supported with FTA assistance. As required by U.S. DOT regulations, “Seismic Safety,” 49 CFR 41.117(d), before accepting delivery of any building financed with FTA assistance, it will obtain a certificate of compliance with the seismic design and construction requirements of 49 CFR part 41;

(13) To the extent applicable, will provide and maintain competent and adequate engineering supervision at the construction site of any project supported with FTA assistance to ensure that the complete work conforms with the approved plans and specifications, and will furnish progress reports and such other information as may be required by FTA or the state;

(14) To the extent applicable, will comply with any applicable environmental standards that may be prescribed to implement the following Federal laws and executive orders:

(a) Institution of environmental quality control measures under the National Environmental Policy Act of 1969, as amended, 42 U.S.C. 4321 through 4335 and Executive Order No. 11514, as amended, 42 U.S.C. 4321 note;

(b) Notification of violating facilities pursuant to Executive Order No. 11738, 42 U.S.C. 7606 note;

(c) Protection of wetlands pursuant to Executive Order No. 11990, 42 U.S.C. 4321 note;

(d) Evaluation of flood hazards in floodplains in accordance with Executive Order No. 11988, 42 U.S.C. 4321 note;

(e) Assurance of project consistency with the approved state management program developed pursuant to the requirements of the Coastal Zone Management Act of 1972, as amended, 16 U.S.C. 1451 through 1465;

(f) Conformity of Federal actions to State (Clean Air) Implementation Plans under section 176(c) of the Clean Air Act of 1955, as amended, 42 U.S.C. 7401 through 7671q;

(g) Protection of underground sources of drinking water under the Safe Drinking Water Act of 1974, as amended, 42 U.S.C. 300f through 300j-6;

(h) Protection of endangered species under the Endangered Species Act of 1973, as amended, 16 U.S.C. 1531 through 1544; and

(i) Environmental protections for Federal transportation programs, including, but not limited to, protections for parks, recreation areas, or wildlife or waterfowl refuges of national, state, or local significance or any land from a historic site of national, State, or local significance to be used in a transportation project as required by 49 U.S.C. 303(b) and 303(c);

(j) Protection of the components of the national wild and scenic rivers systems, as required under the Wild and Scenic Rivers Act of 1968, as amended, 16 U.S.C. 1271 through 1287; and

(k) Provision of assistance to FTA in complying with section 106 of the National Historic Preservation Act of 1966, as amended, 16 U.S.C. 470f; with the Archaeological and Historic Preservation Act of 1974, as amended, 16 U.S.C. 469 through 469c; and with Executive Order No. 11593 (identification and protection of historic properties), 16 U.S.C. 470 note;

(15) To the extent applicable, will comply with the requirements of the Hatch Act, 5 U.S.C. 1501 through 1508 and 7324 through 7326, which limit the political activities of State and local agencies and their officers and employees whose primary employment activities are financed in whole or part with Federal funds including a Federal loan, grant agreement, or cooperative agreement except, in accordance with 49 U.S.C. 5307(k)(2) and 23 U.S.C. 142(g), the Hatch Act does not apply to a nonsupervisory employee of a public transportation system (or of any other agency or entity performing related functions) receiving FTA assistance to whom that Act does not otherwise apply;

(16) To the extent applicable, will comply with the National Research Act, Public Law 93-348, July 12, 1974, as amended, 42 U.S.C. 289 et seq., and U.S. DOT regulations, “Protection of Human Subjects,” 49 CFR Part 11, regarding the protection of human subjects involved in research, development, and related activities supported by Federal assistance;

(17) To the extent applicable, will comply with the Laboratory Animal Welfare Act of 1966, as amended, 7 U.S.C. 2131 et seq., and U.S. Department of Agriculture regulations, “Animal Welfare,” 9 CFR subchapter A, parts 1, 2, 3, and 4, regarding the care, handling, and treatment of warm blooded animals held or used for research, teaching, or other activities supported by Federal assistance;

(18) Will have performed the financial and compliance audits as required by the Single Audit Act Amendments of 1996, 31 U.S.C. 7501 et seq., OMB Circular A-133, “Audits of States, Local Governments, and Non-Profit Organizations,” Revised, and the most recent applicable OMB A-133 Compliance Supplement provisions for the U.S. DOT; and

(19) To the extent applicable, will comply with all applicable provisions of all other Federal laws, regulations, and directives governing the project, except to the extent that FTA has expressly approved otherwise in writing.

22. Tribal Transit Program

Each Applicant for Tribal Transit Program assistance must provide all certifications and assurance set forth below. Except to the extent that FTA determines otherwise in writing, FTA may not award any Federal assistance under the Tribal Transit Program until the Applicant provides these certifications and assurances by selecting Category “22.”

In accordance with 49 U.S.C. 5311(c)(1) that authorizes the Secretary of Transportation to establish terms and conditions for direct grants to Indian tribal governments, the Applicant certifies and ensures as follows:

A. The Applicant ensures that:

(1) It has or will have the necessary legal, financial, and managerial capability to apply for, receive, and disburse Federal assistance authorized for 49 U.S.C. 5311; and to carry out each project, including the safety and security aspects of that project;

(2) It has or will have satisfactory continuing control over the use of project equipment and facilities;

(3) The project equipment and facilities will be adequately maintained; and

(4) Its project will achieve maximum feasible coordination with transportation service assisted by other Federal sources.

B. In accordance with 49 CFR 18.36(g)(3)(ii), the Applicant certifies that its procurement system will comply with the requirements of 49 CFR 18.36, or will inform FTA promptly that its procurement system does not comply with 49 CFR 18.36.

C. To the extent applicable to the Applicant or its Project, the Applicant certifies that it will comply with the certifications, assurances, and agreements in Category 08 (Bus Testing), Category 09 (Charter Bus Agreement), Category 10 (School Transportation Agreement), Category 11 (Demand Responsive Service), Category 12 (Alcohol Misuse and Prohibited Drug Use), and Category 14 (National Intelligent Transportation Systems Architecture and Standards) of this document.

D. If its application exceeds $100,000, the Applicant agrees to comply with the certification in Category 02 (Lobbying) of this document.

Selection and Signature Page(s) follow

FEDERAL FISCAL YEAR 2008 CERTIFICATIONS AND ASSURANCES FOR FEDERAL TRANSIT ADMINISTRATION ASSISTANCE PROGRAMS

(Signature page alternative to providing Certifications and Assurances in TEAM-Web)

Name of Applicant:

The Applicant agrees to comply with applicable provisions of Categories 01-24.

OR

The Applicant agrees to comply with applicable provisions of the Categories it has selected:

| Category | Description
01 | Assurances Required For Each Applicant |
02 | Lobbying |
03 | Procurement Compliance |
04 | Protections for Private Providers of Public Transportation |
05 | Public Hearing |
06 | Acquisition of Rolling Stock for Use in Revenue Service |
07 | Acquisition of Capital Assets by Lease |
08 | Bus Testing |
09 | Charter Service Agreement |
10 | School Transportation Agreement |
11 | Demand Responsive Service |
12 | Alcohol Misuse and Prohibited Drug Use |
13 | Interest and Other Financing Costs |
14 | Intelligent Transportation Systems |
15 | Urbanized Area Formula Program |
16 | Clean Fuels Grant Program |
17 | Elderly Individuals and Individuals with Disabilities Formula Program and Pilot Program |
18 | Nonurbanized Area Formula Program for States |
19 | Job Access and Reverse Commute Program |
20 | New Freedom Program |
21 | Alternative Transportation in Parks and Public Lands Program |
22 | Tribal Transit Program |
23 | Infrastructure Finance Projects |
24 | Deposits of Federal Financial Assistance to a State Infrastructure Banks |

FEDERAL FISCAL YEAR 2008 FTA CERTIFICATIONS AND ASSURANCES SIGNATURE PAGE

(Required of all Applicants for FTA assistance and all FTA Grantees with an active capital or formula project)

AFFIRMATION OF APPLICANT

Name of Applicant:

Name and Relationship of Authorized Representative:

BY SIGNING BELOW, on behalf of the Applicant, I declare that the Applicant has duly authorized me to make these certifications and assurances and bind the Applicant's compliance. Thus, the Applicant agrees to comply with all Federal statutes, regulations, executive orders, and directives, and with the certifications and assurances as indicated on the foregoing page applicable to each application it makes to the Federal Transit Administration (FTA) in Federal Fiscal Year 2008.

FTA intends that the certifications and assurances the Applicant selects on the other side of this document, as representative of the certifications and assurances in this document, should apply, as provided, to each project for which the Applicant seeks now, or may later, seek FTA assistance during Federal Fiscal Year 2008.

The Applicant affirms the truthfulness and accuracy of the certifications and assurances it has made in the statements submitted herein with this document and any other submission made to FTA, and acknowledges that the Program Fraud Civil Remedies Act of 1986, 31 U.S.C. 3801 et seq., and implementing U.S. DOT regulations, “Program Fraud Civil Remedies,” 49 CFR Part 31 apply to any certification, assurance or submission made to FTA. The criminal fraud provisions of 18 U.S.C. 1001 apply to any certification, assurance, or submission made in connection with a Federal public transportation program authorized in 49 U.S.C. chapter 53 or any other statute. In signing this document, I declare under penalties of perjury that the foregoing certifications and assurances, and any other statements made by me on behalf of the Applicant are true and correct.

Signature

Date:

Name

Authorized Representative of Applicant

AFFIRMATION OF APPLICANT'S ATTORNEY

For (Name of Applicant):

As the undersigned Attorney for the above named Applicant, I hereby affirm to the Applicant that it has authority under State, local, or tribal government law, as applicable, to make and comply with the certifications and assurances as indicated on the foregoing pages. I further affirm that, in my opinion, the certifications and assurances have been legally made and constitute legal and binding obligations on the Applicant.

I further affirm to the Applicant that, to the best of my knowledge, there is no legislation or litigation pending or imminent that might adversely affect the validity of these certifications and assurances, or of the performance of the project.

Signature

Date:

Name

Attorney for Applicant

Each Applicant for FTA financial assistance and each FTA Grantee with an active capital or formula project must provide an Affirmation of Applicant's Attorney pertaining to the Applicant's legal capacity. The Applicant may enter its signature in lieu of the Attorney's signature, provided the Applicant has on file this Affirmation, signed by the attorney and dated this Federal fiscal year.

Appendix B—FTA Regional Offices and Tribal Transit Liaisons

Region I—Massachusetts, Rhode Island, Connecticut, New Hampshire, Vermont and Maine.

Richard H. Doyle, FTA Regional Administrator, Volpe National Transportation Systems Center, Kendall Square, 55 Broadway, Suite 920, Cambridge, MA 02142-1093, Phone: (617) 494-2055, Fax: (617) 494-2865. Regional Tribal Liaison: Judi Molloy.

Region II—New York, New Jersey.

Brigid Hynes-Cherin, FTA Regional Administrator, One Bowling Green, Room 429, New York, NY 10004-1415, Phone: (212) 668-2170, Fax: (212) 668-2136. Regional Tribal Liaison: Rebecca Reyes-Alicea.

Region III—Pennsylvania, Maryland, Virginia, West Virginia, Delaware, Washington, DC.

Letitia Thompson, FTA Regional Administrator, 1760 Market Street, Suite 500, Philadelphia, PA 19103-4124, Phone: (215) 656-7100, Fax: (215) 656-7260.

Region IV—Georgia, North Carolina, South Carolina, Florida, Mississippi, Tennessee, Kentucky, Alabama, Puerto Rico, Virgin Islands.

Yvette G. Taylor, FTA Regional Administrator, 230 Peachtree St., NW., Suite 800, Atlanta, GA 30303, Tel.: (404) 865-5600, Fax: (404) 865-5605. Regional Tribal Liaisons: Jamie Pfister and James Garland.

Region V—Illinois, Indiana, Ohio, Wisconsin, Minnesota, Michigan.

Marisol R. Simon, FTA Regional Administrator, 200 West Adams Street, Suite 320, Chicago, IL 60606-5232, Phone: (312) 353-2789, Fax: (312) 886-0351. Regional Tribal Liaisons: William Wheeler, Joyce Taylor.

Region VI—Texas, New Mexico, Louisiana, Arkansas, Oklahoma.

Robert Patrick, FTA Regional Administrator, 819 Taylor Street, Room 8A36, Ft. Worth, TX 76102, Phone: (817) 978-0550, Fax: (817) 978-0575. Regional Tribal Liaison: Lynn Hayes.

Region VII—Iowa, Nebraska, Kansas, Missouri.

Mokhtee Ahmad, FTA Regional Administrator, 901 Locust Street, Suite 404, Kansas City, MO 64106, Phone: (816) 329-3920, Fax: (816) 329-3921. Regional Tribal Liaisons: Joni Roeseler and Cathy Monroe.

Region VIII—Colorado, North Dakota, South Dakota, Montana, Wyoming, Utah.

Terry Rosapep, FTA Regional Administrator, 12300 West Dakota Avenue, Suite 310, Lakewood, CO 80228-2583, Phone: (720) 963-3300, Fax: (720) 963-3333. Regional Tribal Liaisons: Jennifer Stewart and David Beckhouse.

Region IX—California, Arizona, Nevada, Hawaii, American Samoa, Guam.

Leslie Rogers, FTA Regional Administrator, 201 Mission Street, Suite 1650, San Francisco, CA 94105-1831, Phone: (415) 744-3133, Fax: (415) 744-2726. Regional Tribal Liaison: Lorraine Lerman.

Region X—Washington, Oregon, Idaho, Alaska.

Richard Krochalis, FTA Regional Administrator, Jackson Federal Building, 915 Second Avenue, Suite 3142, Seattle, WA 98174-1002, Phone: (206) 220-7954, Fax: (206) 220-7959. Regional Tribal Liaisons: Bill Ramos and Annette Clothier.

Appendix C—Technical Assistance Contacts

Tribal Technical Assistance Program (TTAP) Centers

TTAP-Alaska

Alaska Tribal Technical Assistance Program, NW & AK TTAP, 329 Harbor Dr. #208, Sitka, AK 99835, Contact: Dan Moreno, Telephone: (800) 399-6376, Fax: (907) 747-5032, E-mail: dmoreno@mail.ewu.edu. Web: http://www.ewu.edu/TTAP.

TTAP-California

TTAP-California-Nevada, The National Center for American Indian Enterprise Development, 11138 Valley Mall, Suite 200, El Monte, CA 91731, Contact: Lee Bigwater, Telephone: (626) 350-4446, Fax: (626) 442-7115.

TTAP-Colorado

Tribal Technical Assistance Program at Colorado State University, Rockwell Hall, Rm. 321, Colorado State University, Fort Collins, CO 80523-1276, Contact: Ronald Hall, Telephone: (800) 262-7623, Fax: (970) 491-3502, E-mail: ronald.hall@colostate.edu. Web: http://ttap.colostate.edu/.

TTAP-Michigan

Tribal Technical Assistance Program, 301-E Dillman Hall, Michigan Technological University, 1400 Townsend Dr., Houghton, MI 49931-1295, Contact: Bernard D. Alkire, Telephone: (888) 230-0688, Fax: (906) 487-1834, E-mail: balkire@mtu.edu. Web: http://www.ttap.mtu.edu.

TTAP-North Dakota

Northern Plains Tribal Technical Assistance Program, United Tribes Technical College, 3315 University Drive, Bismarck, ND 58504, Contact: Dennis Trusty, Telephone: (701) 255-3285 ext. 1262, Fax: (701) 530-0635, E-mail: nddennis@hotmail.com or dtrusty@uttc.edu. Web: http://www.uttc.edu/organizations/ttap/ttap.asp.

TTAP-NW

Northwest Tribal Technical Assistance Program, Eastern Washington University Department of Urban Planning, Public & Health Administration, 216 Isle Hall, Cheney, WA 99004, Contact: David Frey, Telephone: (800) 583-3187, Fax: (509) 359-7485, E-mail: rrolland@ewu.edu. Web: http://www.ewu.edu/TTAP.

TTAP-Oklahoma

Tribal Technical Assistance Program at Oklahoma State University, Oklahoma State University, 5202 N. Richmond Hills Road, Stillwater, OK 74078-0001, Contact: James Self, Telephone: (405) 744-6049, Fax: (405) 744-7268, E-mail: jim.self@okstate.edu. Web: http://ttap.okstate.edu.

Additional Technical Assistance Resources

National RTAP (National Rural Transit Assistance Program), E-mail: nationalrtap@apwa.net. http://www.nationalrtap.org/. Dave Barr 202-218-6722.

Community Transportation Association of America, The Resource Center—800-891-0590. http://www.ctaa.org/.

[FR Doc. E8-11338 Filed 5-20-08; 8:45 am]

BILLING CODE 4910-57-P